DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by November 1, 2000. A copy of the information collection plans may be obtained by calling the SAMHSA Reports Clearance Officer on (301) 443-7978.

Title: 2001 National Household Survey on Drug Abuse Incentive Experiment.

OMB Number: 0930-0110 (Revision).

Frequency: Single time.

Affected public: Individuals or households.

SAMHSA's National Household Survey on Drug Abuse (NHSDA) is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

As part of the 2001 NHSDA, an incentive experiment is planned for the first two quarters of the year (January through June). The goal of the experiment is to determine whether response rates for the NHSDA can be increased without negatively affecting the quality of the data collected or significantly increasing the cost of the data collection. Despite utilization of all usual, non-monetary methods to maximize response rates, the overall national response rate for the 2000 NHSDA remains below the Office of Management and Budget standard of 80 percent and the response rates for the states vary greatly.

Improvements in the response rates are expected to generate more precise estimates and are expected to reduce bias and mean squared error for both the national and state level estimates. Because of the importance of achieving the maximum practical response rates across all states, and because we have already implemented all known alternative methods to increase the response rates, it is critical that this incentive experiment be conducted as quickly as possible so that the findings can be considered in plans for the 2002 NHSDA (or sooner, if possible).

Households included in this experiment will be selected randomly from among the households already selected for the 2001 NHSDA. Once assigned to the experiment, households will be assigned to one of three treatment groups: a $40 incentive, a $20 incentive, or no incentive.

Respondents who take part in the incentive experiment will complete exactly the same questionnaire as that used for the main 2001 NHSDA. The sample size for the incentive experiment will be sufficient to assess the effectiveness of the incentive as described above. A sample of approximately 2,500 completed interviews is planned. No additional burden will be realized for this experiment beyond what was originally calculated for the main 2001 NHSDA data collection activities because the experiment will be conducted among households selected for the national survey.

Written comments and recommendations concerning the proposed information collection should be sent within two weeks of this notice to: Stuart Shapiro, Human Resources and Housing Branch, Office of Management and Budget, New Executive Office Building, Room 10235, Washington, DC 20503.

Dated: October 10, 2000.
Patricia S. Bransford,
Acting Executive Officer, SAMHSA.

[FR Doc. 00-26451 Filed 10-13-00; 8:45 am]

BILLING CODE 4162-20-P